Title 3—

The President

Executive Order 13830 of April 20, 2018

Delegation of Authority To Approve Certain Military Decorations

For the purpose of carrying into effect the provisions of sections 1121, 3742, 3743, 3746, 3749, 3750, 6242, 6243, 6244, 6245, 6246, 8742, 8743, 8746, 8749, and 8750 of title 10, and sections 491a, 492, 492a, 492b, and 493 of title 14, United States Code, the following rules and regulations pertaining to the award of the Distinguished Service Cross, Navy Cross, Air Force Cross, Coast Guard Cross, Distinguished Service Medal, Silver Star Medal, Legion of Merit, Distinguished Flying Cross, Soldier's Medal, Navy and Marine Corps Medal, Airman's Medal, and Coast Guard Medal are promulgated:

Section 1. Distinguished Service Cross, Navy Cross, Air Force Cross, and Coast Guard Cross. The Secretary of the military department concerned, or the Secretary of Homeland Security with respect to the Coast Guard when it is not operating as a service in the Navy, may award the Distinguished Service Cross, Navy Cross, Air Force Cross, and Coast Guard Cross in the name of the President to any person who, while serving in any capacity with the Army, Navy, Marine Corps, Air Force, or Coast Guard, as the case may be, distinguishes himself or herself by extraordinary heroism not justifying award of the Medal of Honor:

(a) while engaged in an action against an enemy of the United States;

(b) while engaged in military operations involving conflict with an opposing foreign force or, with respect to the Coast Guard, an international terrorist organization; or

(c) while serving with friendly foreign forces engaged in an armed conflict against an opposing armed force in which the United States is not a belligerent party.

Sec. 2. Distinguished Service Medal. The Secretary of the military department concerned, or the Secretary of Homeland Security with respect to the Coast Guard when it is not operating as a service in the Navy, may award the Distinguished Service Medal of each of the respective Armed Forces of the United States in the name of the President to any person who, while serving in any capacity with the Army, Navy, Marine Corps, Air Force, or Coast Guard, as the case may be, distinguishes himself or herself by exceptionally meritorious service to the United States in a duty of great responsibility.

Sec. 3. Silver Star Medal. The Secretary of the military department concerned, or the Secretary of Homeland Security with respect to the Coast Guard when it is not operating as a service in the Navy, may award the Silver Star Medal in the name of the President to any person who, while serving in any capacity with the Army, Navy, Marine Corps, Air Force, or Coast Guard, as the case may be, is cited for gallantry in action that does not warrant award of the Medal of Honor, Distinguished Service Cross, Navy Cross, Air Force Cross, or Coast Guard Cross:

(a) while engaged in an action against an enemy of the United States;

(b) while engaged in military operations involving conflict with an opposing foreign force or, with respect to the Coast Guard, an international terrorist organization; or

(c) while serving with friendly foreign forces engaged in an armed conflict against an opposing armed force in which the United States is not a belligerent party.

Sec. 4. Legion of Merit.

(a) The Secretary of the military department concerned, or the Secretary of Homeland Security with respect to the Coast Guard when it is not operating as a service in the Navy, may award the Legion of Merit, without degree, in the name of the President to any member of the Armed Forces of the United States, who, after September 8, 1939, has distinguished himself or herself by exceptionally meritorious conduct in performing outstanding services.

(b) The Secretary of Defense, after concurrence by the Secretary of State, may award the Legion of Merit, in the degrees of Commander, Officer, and Legionnaire, to a member of the armed forces of friendly foreign nations.

(c) The Secretary of Defense, after concurrence by the Secretary of State, shall submit to the President for his approval, recommendations for award of the Legion of Merit, in the degree of Chief Commander, to a member of the armed forces of friendly foreign nations.

Sec. 5. Distinguished Flying Cross.

(a) The Secretary of the military department concerned, or the Secretary of Homeland Security with respect to the Coast Guard when it is not operating as a service in the Navy, may award the Distinguished Flying Cross in the name of the President to any eligible person identified in subsection (b) who, while serving in any capacity with the Army, Navy, Marine Corps, Air Force, or Coast Guard, distinguishes himself or herself by heroism or extraordinary achievement while participating in an aerial flight aboard an aircraft or spacecraft.

(b) (i) Any member of the Armed Forces of the United States, including a member not on active duty, who, while participating in an aerial flight aboard an aircraft or spacecraft, performs official duties incident to such membership is eligible for the award of the Distinguished Flying Cross.

(ii) Any member of the armed forces of a friendly foreign nation who, while serving with the Armed Forces of the United States, participates in an aerial flight aboard an aircraft or spacecraft and performs official duties incident to such membership is eligible for the award of the Distinguished Flying Cross.

(iii) Civilians are not eligible for the award of the Distinguished Flying Cross.

(c) No Distinguished Flying Cross may be awarded or presented to any person, or to that person's representative, if the person's service after the qualifying act or achievement has not been honorable.

(d) With regard to the award of the Distinguished Flying Cross for a qualifying act or achievement performed:

(i) on or before July 2, 1926, no award shall be made after July 2, 1929, unless the award recommendation was made on or before July 2, 1928, in which case the award may be made;

(ii) between December 7, 1941, and September 2, 1945, no award shall be made after May 2, 1952, unless the award recommendation was made on or before May 2, 1951, in which case the award may be made;

(iii) between September 3, 1945, and twelve o'clock noon on December 31, 1946 (the date and time World War II hostilities were terminated pursuant to Proclamation 2714 of December 31, 1946), no award shall be made unless the award recommendation was made on or before June 30, 1947;

(iv) between July 2, 1926, and September 10, 2001, with the exception of a qualifying act or achievement authorized pursuant to paragraphs (ii) or (iii) of this subsection, no award shall be made more than 3 years after the date of the qualifying act or achievement unless the award recommendation was made within 2 years of the qualifying act or achievement; or

(v) on or after September 11, 2001, no award shall be made except in accordance with any time limitations established in regulations by the Secretary of the military department concerned or by the Secretary of Homeland Security with respect to the Coast Guard when it is not operating as a service in the Navy.

(e) The Distinguished Flying Cross may be awarded posthumously. When so awarded, it may be presented to such representative of the deceased as may be deemed appropriate by the Secretary of the military department concerned, or the Secretary of Homeland Security with respect to the Coast Guard when it is not operating as a service in the Navy.

(f) Not more than one Distinguished Flying Cross may be awarded to any one person. For each succeeding act of heroism or extraordinary achievement justifying such an award, a suitable bar or other device may be awarded to be worn with the medal.

Sec. 6. Soldier's Medal, Navy and Marine Corps Medal, Airman's Medal, and Coast Guard Medal.

(a) The Secretary of the military department concerned, or the Secretary of Homeland Security with respect to the Coast Guard when it is not operating as a service in the Navy, may award the Soldier's Medal, Navy and Marine Corps Medal, Airman's Medal, and Coast Guard Medal in the name of the President to any person who, while serving in any capacity with the Army, Navy, Marine Corps, Air Force, or Coast Guard, as the case may be, distinguishes himself or herself by heroism not involving actual conflict with an enemy.

(b) The Secretary of the Navy may award the Navy and Marine Corps Medal to any person to whom the Secretary of the Navy, before August 7, 1942, awarded a letter of commendation for heroism, and who applies for that medal, regardless of the date of the act of heroism.

(c) Not more than one Soldier's Medal, Navy and Marine Corps Medal, Airman's Medal, or Coast Guard Medal may be awarded to any one person. For each succeeding act of heroism justifying such an award, a suitable bar or other device may be awarded to be worn with the medal.

Sec. 7. Regulations. The Secretary of the military department concerned, and the Secretary of Homeland Security with respect to the Coast Guard when it is not operating as a service in the Navy, may prescribe such regulations as they may deem appropriate to carry out this order. The regulations of the Secretaries of the military departments concerned with respect to the award of the Silver Star Medal, Distinguished Flying Cross, and Legion of Merit shall, so far as practicable, be uniform and shall be subject to the approval of the Secretary of Defense.

Sec. 8. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order supersedes Executive Order 4601 of March 1, 1927, as amended, and Executive Order 9260 of October 29, 1942, as amended. However, existing regulations prescribed pursuant to those orders, shall, so far as they are not inconsistent with this order, remain in effect until modified or revoked by regulations prescribed by the Secretary of the military department concerned, or the Secretary of Homeland Security with respect to the Coast Guard when it is not operating as a service in the Navy, under this order.

(d) This order is not intended to, and does not, invalidate any award of military decorations covered by this order made prior to the effective date of this order.

(e) This order is not intended to, and does not, create any right or benefit, substantive or procedural, enforceable at law or in equity by any party against the United States, its departments, agencies, or entities, its officers, employees, or agents, or any other person.

THE WHITE HOUSE,

April 20, 2018.

[FR Doc. 2018-08883

4-24-18; 11:15 am]

Billing code 3295-F8-P